DEPARTMENT OF ENERGY

Federal Energy Regulatory Commission

[Project No. 618-161]

Alabama Power Company; Notice of Application for Amendment of License and Soliciting Comments, Motions To Intervene, and Protests

October 3, 2007.

Take notice that the following hydroelectric application has been filed with the Commission and is available for public inspection:

a. Application Type: Request for Temporary Variance of Minimum Flow Requirement.

b. Project No.: 618-161.

c. Date Filed: September 26, 2007.

d. Applicant: Alabama Power Company.

e. Name of Project: Jordan Dam.

f. Location: On the Coosa River, in Elmore, Chilton, and Coosa Counties, Alabama.

g. Filed Pursuant to: Federal Power Act, 16 U.S.C. 791a-825r.

h. Applicant Contact: Barry K. Lovett, Alabama Power Company, 600 N. 18th Street, P.O. Box 2641, Birmingham, AL 35291, (205) 257-1258.

i. FERC Contact: Peter Yarrington, peter.yarrington@ferc.gov, (202) 502-6129.

j. Deadline for filing comments, motions to intervene and protests: October 19, 2007.

All documents (original and eight copies) should be filed with: Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: The Alabama Power Company (APC) is requesting a temporary variance of the minimum flow requirement of the project license in order to resume a study of the effects of minimum flow reductions on aquatic resources, including the federally endangered Tulotoma snail, Tulotoma magnifica. Flow reductions are being studied because of a worsening drought in the Coosa Basin, rated “exceptional,” the most severe category recognized by the U.S. Drought Monitoring Program.

The project license requires a flow release of 2,000 cfs July 1 through March 31. Study flow reductions were originally approved in a July 18, 2007 Commission order. The July 18, 2007 approval allowed a reduction to 1,000 cfs, made in 250-cfs increments. The licensee and resource agencies would assess habitat conditions downstream of Jordan Dam at each flow increment. However, in mid-August, when study flows were 1,600 cfs, high water temperatures caused concerns for the Tulotoma snail, and the study was suspended.

With seasonal water temperatures decreasing, the licensee now proposes to resume the study, based on resource agency consultations and written concurrences. Flow releases would be reduced over a period of 6 days, to 1,600 cfs, by October 1. A target flow of 1,600 cfs, within +/−5 percent, would be maintained until December 1, 2007, unless a 7-day inflow of at least 2,000 cfs occurs, in which case flow releases would be increased to 2,000 cfs. The licensee would hold weekly teleconferences with the resource agencies regarding the study and flows, and would produce aerial photographs of the downstream area at the reduced flow rate.

l. Locations of the Application: The filing is available for inspection and reproduction at the Commission's Public Reference Room, located at 888 First Street, NE., Room 2A, Washington, DC 20426, or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(I)(iii) and the instructions on the Commission's Web site at http://www.ferc.gov under the “e-Filing” link.

Kimberly D. Bose,
Secretary.

[FR Doc. E7-20021 Filed 10-10-07; 8:45 am]

BILLING CODE 6717-01-P